DEPARTMENT OF LABOR

Employment and Training Administration

[TA-W-57,513]

Tower Automotive Milwaukee, LLC, Milwaukee Business Unit, Milwaukee, WI; Amended Certification Regarding Eligibility To Apply for Worker Adjustment Assistance and Alternative Trade Adjustment Assistance

In accordance with section 223 of the Trade Act of 1974 (19 U.S.C. 2273) the Department of Labor issued a Certification of Eligibility To Apply for Worker Adjustment Assistance and Alternative Trade Adjustment Assistance on August 3, 2005, applicable to workers of Tower Automotive Milwaukee, LLC, Milwaukee Business Unit, Milwaukee, Wisconsin. The notice will be published soon in the Federal Register.

At the request of the State agency, the Department reviewed the certification for workers of the subject firm. The workers are engaged in the production of automotive frames and stampings.

New findings show that there was a previous certification, TA-W-50,339, issued on January 23, 2003, for workers of Tower Automotive, Inc., Milwaukee, Wisconsin who were engaged in employment related to the production of structural component parts and assemblies for light truck bodies. That certification expired January 23, 2005. To avoid an overlap in worker group coverage, the certification is being amended to change the impact date from June 30, 2004, to January 24, 2005, for workers of the subject firm.

The amended notice applicable to TA-W-57,513 is hereby issued as follows:

All workers of Tower Automotive Milwaukee, LLC, Milwaukee Business Unit, Milwaukee, Wisconsin who became totally or partially separated from employment on or after January 24, 2005, through August 3, 2007, are eligible to apply for adjustment assistance under Section 223 of the Trade Act of 1974 and are also eligible to apply for alternative trade adjustment assistance under Section 246 of the Trade Act of 1974.

Signed in Washington, DC this 9th day of August, 2005.
Richard Church,
Certifying Officer, Division of Trade Adjustment Assistance.

[FR Doc. E5-4498 Filed 8-17-05; 8:45 am]

BILLING CODE 4510-30-P